DEPARTMENT OF DEFENSE

Department of the Air Force

HQ USAF Scientific Advisory Board

AGENCY: Department of the Air Force, DoD.

ACTION: Notice of meeting.

SUMMARY: Pursuant to Public Law 92-463, notice is hereby given of the forthcoming meeting of the SAB and the ACC Advisory Group. The purpose of the meeting is to allow the SAB leadership to give consensus advice to the ACC Commander. Because classified and contractor-proprietary information will be discussed, this meeting will be closed to the public

DATES: April 16, 2004.

ADDRESSES: Bldg 205 Dodd Blvd, Langley AFB, VA.

FOR FURTHER INFORMATION CONTACT: Lt Col Mark Nowack, Air Force Scientific Advisory Board Secretariat, 1180 Air Force Pentagon, Rm 5D982, Washington DC 20330-1180, (703) 697-4811.

Pamela D. Fitzgerald,
Air Force Federal Register Liaison Officer.

[FR Doc. 04-7673 Filed 4-5-04; 8:45 am]

BILLING CODE 5001-05-P